DEPARTMENT OF ENERGY

Federal Energy Regulatory Commission

Combined Notice of Filings

Take notice that the Commission has received the following Natural Gas Pipeline Rate and Refund Report filings:

Docket Numbers: RP20-261-000.

Applicants: El Paso Natural Gas Company, L.L.C.

Description: § 4(d) Rate Filing: Non-Conforming Agreements Filing (SWG_TEP) to be effective 1/1/2020.

Filed Date: 11/25/19.

Accession Number: 20191125-5261.

Comments Due: 5 p.m. ET 12/16/19.

Docket Number: PR20-2-001.

Applicants: Valley Crossing Pipeline, LLC.

Description: Tariff filing per 284.123(b),(e)+(g): Amended Petition for Rate Approval and Statement of Operating Conditions to be effective 10/18/2019.

Filed Date: 12/10/19.

Accession Number: 20191210-5169.

Comments Due: 5 p.m. ET 12/31/19.

284.123(g) Protests Due: 5 p.m. ET 2/10/20.

Docket Numbers: RP20-320-000.

Applicants: Trailblazer Pipeline Company LLC.

Description: § 4(d) Rate Filing: Neg Rates 2019-12-06 RP18-922 Settlement Ks to be effective 10/1/2019.

Filed Date: 12/9/19.

Accession Number: 20191209-5130.

Comments Due: 5 p.m. ET 12/23/19.

Docket Numbers: RP20-321-000.

Applicants: East Tennessee Natural Gas, LLC.

Description: § 4(d) Rate Filing: ETNG Oglethorpe release to Ratio Energy eff 12-11-2019 to be effective 12/11/2019.

Filed Date: 12/10/19.

Accession Number: 20191210-5111.

Comments Due: 5 p.m. ET 12/23/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 11, 2019.
Nathaniel J. Davis, Sr.,
Deputy Secretary.

[FR Doc. 2019-27147 Filed 12-16-19; 8:45 am]

BILLING CODE 6717-01-P